DEPARTMENT OF COMMERCE

National Oceanic and Atmospheric Administration

RIN0648-XB056

Mid-Atlantic Fishery Management Council (MAFMC); Public Meetings

AGENCY: National Marine Fisheries Service (NMFS), National Oceanic and Atmospheric Administration (NOAA), Commerce.

ACTION: Notice of public meetings.

SUMMARY: The Scientific and Statistical Committee (SSC) and the Tilefish Monitoring Committee of the Mid-Atlantic Fishery Management Council (Council) will hold meetings.

DATES: The SSC will meet Wednesday, March 21, 2012 from 10 a.m. until 5 p.m. and Thursday, March 22, 2012 from 8 a.m. until 4 p.m. The Tilefish Monitoring Committee will meet Wednesday, March 21, 2012 from 3 p.m. until 5 p.m.

ADDRESSES: The meetings will be held at the Pier V Hotel, 711 Eastern Avenue, Baltimore, MD 21202; telephone: (410) 539-2000.

Council address: Mid-Atlantic Fishery Management Council, 800 N. State Street, Suite 201, Dover, DE 19901; telephone: (302) 674-2331.

FOR FURTHER INFORMATION CONTACT: Christopher M. Moore, Ph.D., Executive Director, Mid-Atlantic Fishery Management Council, 800 N. State Street, Suite 201, Dover, DE 19901; telephone: (302) 526-5255.

SUPPLEMENTARY INFORMATION: The primary purpose of the SSC meeting includes: 2012-14 ABC recommendations for tilefish; development of criteria for prioritization of the MAFMC five-year research plan; discussion of the peer review of the Management Strategy Evaluation Study of the ABC Control Rules; development of criteria for establishing multi-year ABC recommendations; and development of technical advice for MAFMC's Ecosystem Based Fishery Management Guidance Document. The purpose of the Tilefish Monitoring Committee is to recommend management measures designed to achieve recommended catch limits.

Although non-emergency issues not contained in this agenda may come before this group for discussion, those issues may not be the subject of formal action during these meetings. Action will be restricted to those issues specifically listed in this notice and any issues arising after publication of this notice that require emergency action under section 305(c) of the Magnuson-Stevens Fishery Conservation and Management Act, provided the public has been notified of the Council's intent to take final action to address the emergency.

Special Accommodations

The meetings are physically accessible to people with disabilities. Requests for sign language interpretation or other auxiliary aids should be directed to M. Jan Saunders at the Mid-Atlantic Council Office, (302) 526-5251, at least 5 days prior to the meeting date.

Dated: February 28, 2012.
Tracey L. Thompson,
Acting Director, Office of Sustainable Fisheries, National Marine Fisheries Service.

[FR Doc. 2012-5119 Filed 3-1-12; 8:45 am]

BILLING CODE 3510-22-P